FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202) 523-5793 or tradeanalysis@fmc.gov.

Agreement No.: 201392-001.

Agreement Name: Yang Ming Joint Service Agreement.

Parties: Yang Ming Marine Transport Corp.; Yang Ming (Singapore) Pte. Ltd.

Filing Party: Joshua Stein, Cozen O'Connor.

Synopsis: The Amendment deletes Yang Ming (UK) Limited as a party to the agreement.

Proposed Effective Date: 04/26/2024.

Location: https://www2.fmc.gov/FMC.Agreements.Web/Public/AgreementHistory/68502.

Agreement No.: 201425.

Agreement Name: HMM/SML Slot Exchange Agreement.

Parties: HMM Co., Ltd.; SM Line Corporation.

Filing Party: Joshua Stein, Cozen O' Connor.

Synopsis: The Agreement authorizes HMM Co., Ltd., (“HMM”) and SM Line Corporation (“SML”) to exchange slots between all ports in the Republic of Korea and China on the one hand and ports on the U.S. Pacific Coast on the other hand.

Proposed Effective Date: 06/7/2024.

Location: https://www2.fmc.gov/FMC.Agreements.Web/Public/AgreementHistory/86560.

Agreement No.: 201426.

Agreement Name: Cinco/Hyundai Glovis Space Charter.

Parties: Cinco International HongKong Limited; Hyundai Glovis Co. Ltd.

Filing Party: Wayne Rohde, Cozen O' Connor.

Synopsis: The Agreement authorizes Cinco to charter space to Hyundai Glovis in the trade between China and South Korea, on the one hand, and ports on the U.S. West Coast, on the other hand.

Proposed Effective Date: 04/26/2024.

Location: https://www2.fmc.gov/FMC.Agreements.Web/Public/AgreementHistory/86562.

Dated: April 26, 2024.
Carl Savoy,
Federal Register Alternate Liaison Officer.

[FR Doc. 2024-09397 Filed 4-30-24; 8:45 am]

BILLING CODE 6730-02-P